DEPARTMENT OF JUSTICE

Notice of Extension of Comment Period Regarding Consent Decree Lodged Pursuant to the Comprehensive Environmental Response, Compensation and Liability Act

On May 22, 2003, notice was published in the Federal Register, 68 FR 28016, that on May 7, 2003, a proposed consent decree in United States v. Tecumseh Products Company, Civil Action No. 03-C-0401, was lodged with the United States District Court for the Eastern District of Wisconsin. The notice stated that comments on the proposed settlement would be received for a period of thirty days from the date of publication of the notice. The comment period is currently set to end on June 21, 2003.

In response to a request from a citizens' group, the Department of Justice is hereby extending the comment period for an additional fifteen days through July 6, 2003.

In this action, the United States sought the implementation of response action and reimbursement of response costs pursuant to the Comprehensive Environmental Response, Compensation and Liability Act, 42 U.S.C. 9601, et seq., (“CERCLA”), for costs incurred by the United States in responding to a release or threat of release of hazardous substances in the Upper River section of the Sheboygan River and Harbor Superfund Site in Sheboygan County, Wisconsin (the “Site”). The United States alleges that Tecumseh Products Company (“Tecumseh”) arranged for disposal of hazardous substances in the Upper River portion of the Site and is liable for costs incurred by the United States in responding to releases of hazardous substances at the Site pursuant to Section 107(a)(1) of CERCLA. The Consent Decree requires Tecumseh to implement the remedial action for the Upper River portion of the Site selected by the U.S. Environmental Protection Agency in a Record of Decision dated May 12, 2000, and to reimburse the United States at least $2,100,000.00 for response costs incurred in connection with the Site.

As noted above, the Department of Justice will receive, for an additional period of fifteen days through July 6, 2003, comments relating to the proposed consent decree. Comments should be addressed to the Assistant Attorney General, Environment and Natural Resources Division, U.S. Department of Justice, P.O. Box 7611, Washington, DC 20044-7611, and should refer to United States v. Tecumseh Products Company, DOJ Ref. # 90-11-2-06440. Commenters may request an opportunity for a public meeting in the affected area, in accordance with Section 7003 of RCRA, 42 U.S.C. 6973(d).

The proposed consent decree may be examined at the office of the United States Attorney, 517 E. Wisconsin Avenue, Suite 530, Milwaukee, Wisconsin 53202, and the Region 5 Office of the Environmental Protection Agency, 77 West Jackson Boulevard, Chicago, IL 60604. During the public comment period, the proposed consent decree may also be examined on the following Department of Justice website, http://www.usdoj.gov/enrd/open.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $51.00 (25 cents per page reproduction cost) payable to the U.S. Treasury.

William D. Brighton,
Assistant Chief, Environmental Enforcement Section, Environment and Natural Resources Division.

[FR Doc. 03-15440 Filed 6-18-03; 8:45 am]

BILLING CODE 4410-15-M